DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP.

The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
St. Clair County (FEMA Docket No.: B-2136). | City of Margaret (20-04-4314P). | The Honorable Jeffery G. Wilson, Mayor, City of Margaret, P.O. Box 100, Margaret, AL 35953. | St. Clair County Flood Management Department, 165 5th Avenue, Suite 100, Ashville, AL 35953. | Aug. 20, 2021 | 010393
St. Clair County (FEMA Docket No.: B-2136). | Unincorporated areas of St. Clair County (20-04-4314P). | The Honorable Paul Manning, Chairman, St. Clair County Commission, 165 5th Avenue, Suite 100, Ashville, AL 35953. | St. Clair County Flood Management Department, 165 5th Avenue, Suite 100, Ashville, AL 35953. | Aug. 20, 2021 | 010290
Lee County (FEMA Docket No.: B-2203). | City of Opelika (21-04-1701P). | The Honorable Gary Fuller, Mayor, City of Opelika, P.O. Box 390, Opelika, AL 36803. | Planning Department, 700 Fox Trail Road, Opelika, AL 36803. | Mar. 29, 2022 | 010145
Arkansas:
Benton (FEMA Docket No.: B-2188). | City of Bentonville (21-06-0748P). | The Honorable Stephanie Orman, Mayor, City of Bentonville, 117 West Central Avenue, Bentonville, AR 72712. | City Hall, 3200 Southwest Municipal Drive, Bentonville, AR 72712. | Mar. 28, 2022 | 050012
Benton (FEMA Docket No.: B-2188). | City of Centerton (21-06-0748P). | The Honorable Bill Edwards, Mayor, City of Centerton, P.O. Box 208, Centerton, AR 72719. | City Hall, 290 Main Street, Centerton, AR 72719. | Mar. 28, 2022 | 050399
Benton (FEMA Docket No.: B-2188). | Unincorporated areas of Benton County (21-06-0748P). | The Honorable Barry Moehring, Benton County Judge, 215 East Central Avenue, Bentonville, AR 72712. | Benton County Planning Department, 2113 West Walnut Street, Rogers, AR 72756. | Mar. 28, 2022 | 050419
Florida: Monroe (FEMA Docket No.: B-2188). | Unincorporated areas of Monroe County (21-04-5290P). | The Honorable Michelle Coldiron, Commissioner, Monroe County Board of Commissioners, 25 Ships Way, Big Pine Key, FL 33043. | Monroe County Building Department, 2798 Overseas Highway, Suite 300, Marathon, FL 33050. | Mar. 28, 2022 | 125129
Maryland:
Cecil (FEMA Docket No.: B-2203). | Town of Charlestown (21-03-1510P). | The Honorable Karl Fockler, President, Town of Charlestown Board of Commissioners, P.O. Box 154, Charlestown, MD 21914. | Town Hall, 241 Market Street, Charlestown, MD 21914. | Mar. 31, 2022 | 240021
Cecil (FEMA Docket No.: B-2203). | Unincorporated areas of Cecil County (21-03-1510P). | The Honorable Danielle Hornberger, Cecil County Executive, 200 Chesapeake Boulevard, Suite 2100, Elkton, MD 21921. | Cecil County Department of Land Use and Development Services, 200 Chesapeake Boulevard, Suite 1200, Elkton, MD 21921. | Mar. 31, 2022 | 240019
Mississippi: Harrison (FEMA Docket No.: B-2203). | City of Pass Christian (21-04-3028P). | The Honorable Jimmy Rafferty, Mayor, City of Pass Christian, 200 West Scenic Drive, Pass Christian, MS 39571. | City Hall, 200 West Scenic Drive, Pass Christian, MS 39571. | Apr. 4, 2022 | 285261
Montana: Stillwater (FEMA Docket No.: B-2188). | Unincorporated areas of Stillwater County (21-08-0555P). | The Honorable Mark Crago, Chairman, Stillwater County Board of Commissioners, P.O. Box 970, Columbus, MT 59019. | Stillwater County, South Annex, 17 North 4th Street, Columbus, MT 59019. | Mar. 25, 2022 | 300078
South Carolina: Orangeburg (FEMA Docket No.: B-2188). | Unincorporated areas of Orangeburg County (22-04-0230P). | The Honorable Johnnie Wright, Sr., Chairman, Orangeburg County Council, 1437 Amelia Street, Orangeburg, SC 29115. | Orangeburg County Community Development Department, 1437 Amelia Street, Orangeburg, SC 29115. | Mar. 30, 2022 | 450160
South Dakota:
Minnehaha (FEMA Docket No.: B-2188). | City of Hartford (21-08-0753P). | The Honorable Jeremy Menning, Mayor, City of Hartford, 125 North Main Avenue, Hartford, SD 57033. | City Hall, 125 North Main Avenue, Hartford, SD 57033. | Mar. 23, 2022 | 460180
Minnehaha (FEMA Docket No.: B-2188). | Unincorporated areas of Minnehaha County (21-08-0753P). | The Honorable Dean Karsky, Chairman, Minnehaha County Board of Commissioners, 415 North Dakota Avenue, Sioux Falls, SD 57104. | Minnehaha County Planning Department, 415 North Dakota Avenue, Sioux Falls, SD 57104. | Mar. 23, 2022 | 460057
Pennington (FEMA Docket No.: B-2203). | City of Rapid City (21-08-0301P). | The Honorable Steve Allender, Mayor, City of Rapid City, 300 6th Street, Rapid City, SD 57701. | Public Works Department—Engineering Services Division, 300 6th Street, Rapid City, SD 57701. | Apr. 4, 2022 | 465420
Texas:
Bexar (FEMA Docket No.: B-2214). | City of Alamo Heights (21-06-1034P). | The Honorable Bobby Rosenthal, Mayor, City of Alamo Heights, 6116 Broadway Street, Alamo Heights, TX 78209. | Community Development Services Department, 6116 Broadway Street, Alamo Heights, TX 78209. | Apr. 4, 2022 | 480036
Dallas (FEMA Docket No.: B-2203). | City of Carrollton (21-06-1452P). | Ms. Erin Rinehart, Manager, City of Carrollton, 1945 East Jackson Road, Carrollton, TX 75006. | Engineering Department, 1945 East Jackson Road, Carrollton, TX 75006. | Mar. 28, 2022 | 480167
Dallas (FEMA Docket No.: B-2203). | City of Coppell (21-06-1452P). | The Honorable Wes Mays, Mayor, City of Coppell, P.O. Box 9478, Coppell, TX 75019. | Department of Public Works, 265 East Parkway Boulevard, Coppell, TX 75019. | Mar. 28, 2022 | 480170
Denton (FEMA Docket No.: B-2188). | City of Carrollton (21-06-1854P). | The Honorable Kevin Falconer, Mayor, City of Carrollton, P.O. Box 110535, Carrollton, TX 75006. | Engineering Department, 1945 East Jackson Road, Carrollton, TX 75006. | Mar. 28, 2022 | 480167
Denton (FEMA Docket No.: B-2188). | City of Lewisville (21-06-1854P). | The Honorable T. J. Gilmore, Mayor, City of Lewisville, P.O. Box 299002, Lewisville, TX 75029. | Engineering Department, 151 West Church Street, Lewisville, TX 75057. | Mar. 28, 2022 | 480195
Denton (FEMA Docket No.: B-2188). | Unincorporated areas of Denton County (21-06-1854P). | The Honorable Andy Eads, Denton County Judge, 110 West Hickory Street, 2nd Floor, Denton, TX 76201. | Denton County Public Works, Engineering Department, 1505 East McKinney Street, Suite 175, Denton, TX 76209. | Mar. 28, 2022 | 480774
Lubbock (FEMA Docket No.: B-2203). | City of Lubbock (21-06-0664P). | The Honorable Dan Pope, Mayor, City of Lubbock, P.O. Box 2000, Lubbock, TX 79457. | Engineering Department, 1314 Avenue K, 7th Floor, Lubbock, TX 79401. | Mar. 28, 2022 | 480452
Tarrant (FEMA Docket No.: B-2203). | City of Benbrook (21-06-0911P). | The Honorable Jerry Dittrich, Mayor, City of Benbrook, 911 Winscott Road, Benbrook, TX 76126. | City Hall, 911 Winscott Road, Benbrook, TX 76126. | Apr. 4, 2022 | 480586
Tarrant (FEMA Docket No.: B-2203). | City of Fort Worth (21-06-0911P). | The Honorable Mattie Parker, Mayor, City of Fort Worth, 200 Texas Street, Fort Worth, TX 76102. | Transportation and Public Works Department, Engineering Vault, 200 Texas Street, Fort Worth, TX 76102. | Apr. 4, 2022 | 480596
Utah:
Salt Lake (FEMA Docket No.: B-2203). | City of Riverton (21-08-0943P). | The Honorable Trent Staggs, Mayor, City of Riverton, 12830 South Redwood Road, Riverton, UT 84065. | Public Works Department, 12526 South 4150 West, Riverton, UT 84096. | Mar. 28, 2022 | 490104
Salt Lake (FEMA Docket No.: B-2203). | City of South Jordan (21-08-0943P). | The Honorable Dawn R. Ramsey, Mayor, City of South Jordan, 1600 West Towne Center Drive, South Jordan, UT 84095. | Development Services Department, 1600 West Towne Center Drive, South Jordan, UT 84095. | Mar. 28, 2022 | 490107
West Virginia:
Grant (FEMA Docket No.: B-2203). | City of Petersburg (21-03-0421P). | The Honorable Gary A. Michael, Mayor, City of Petersburg, 21 Mount View Street, Petersburg, WV 26847. | City Hall, 21 Mount View Street, Petersburg, WV 26847. | Mar. 23, 2022 | 540039
Grant (FEMA Docket No.: B-2203). | Unincorporated areas of Grant County (21-03-0421P). | The Honorable Scotty Miley, President, Grant County Commission, 5 Highland Avenue, Petersburg, WV 26847. | Grant County Courthouse, 5 Highland Avenue, Petersburg, WV 26847. | Mar. 23, 2022 | 540038

[FR Doc. 2022-11679 Filed 5-31-22; 8:45 am]

BILLING CODE 9110-12-P